DEPARTMENT OF COMMERCE

Foreign-Trade Zones Board

[S-185-2017]

Foreign-Trade Zone 144—Brunswick, Georgia; Application for Subzone Orgill, Inc. Tifton, Georgia

An application has been submitted to the Foreign-Trade Zones Board (the Board) by the Brunswick and Glynn County Development Authority, grantee of FTZ 144, requesting subzone status for the facility of Orgill, Inc. (Orgill), located in Tifton, Georgia. The application was submitted pursuant to the provisions of the Foreign-Trade Zones Act, as amended (19 U.S.C. 81a-81u), and the regulations of the Board (15 CFR part 400). It was formally docketed on November 22, 2017.

The proposed subzone (50 acres) is located at 260 Jordan Road, Tifton, Georgia (Tift County). The proposed subzone would be subject to the existing activation limit of FTZ 144. No authorization for production activity has been requested at this time.

In accordance with the Board's regulations, Qahira El-Amin of the FTZ Staff is designated examiner to review the application and make recommendations to the Executive Secretary.

Public comment is invited from interested parties. Submissions shall be addressed to the Board's Executive Secretary at the address below. The closing period for their receipt is January 8, 2018. Rebuttal comments in response to material submitted during the foregoing period may be submitted during the subsequent 15-day period to January 22, 2018.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Qahira El-Amin at Qahira.El-Amin@trade.gov or (202) 482-5928.

Dated: November 22, 2017.
Elizabeth Whiteman,
Acting Executive Secretary.

[FR Doc. 2017-25652 Filed 11-27-17; 8:45 am]

BILLING CODE 3510-DS-P